DEPARTMENT OF ENERGY

Notice of Data Availability: Comments Received on the Department's Draft Consent-Based Siting Process for Consolidated Storage and Disposal Facilities for Spent Nuclear Fuel and High-Level Radioactive Waste Dated January 12, 2017

AGENCY: Office of Spent Fuel and Waste Disposition, Office of Nuclear Energy, Department of Energy.

ACTION: Notice of data availability.

SUMMARY: The U.S. Department of Energy (DOE or Department) Office of Nuclear Energy (NE) is announcing this notice of data availability (NODA) regarding comments received, as well as a summary of the comments, on DOE's “Draft Consent-Based Siting Process for Consolidated Storage and Disposal Facilities for Spent Nuclear Fuel and High-Level Radioactive Waste,” dated January 12, 2017 (2017 Draft CBS Process). The Department is making this information available to inform the public as to the content of the comments received on the 2017 Draft CBS Process and to be available for use in formulating responses to DOE's recently issued request for information (RFI) on how to site federal facilities for the temporary, consolidated storage of spent nuclear fuel using a consent-based approach, dated December 1, 2021.

FOR FURTHER INFORMATION CONTACT: Please send any questions to consentbasedsiting@hq.doe.gov, or to Alisa Trunzo at 301-903-9600.

SUPPLEMENTARY INFORMATION:

Background

The actual comments received on DOE's 2017 Draft CBS Process and a comment summary are available at https://www.energy.gov/ne/consent-based-siting. The Department is making this information available to inform the public as to the content of the comments received on the 2017 Draft CBS Process and to be available for use in formulating responses to DOE's recently issued request for information (RFI) on how to site federal facilities for the temporary, consolidated storage of spent nuclear fuel using a consent-based approach (86 FR 68244, dated December 1, 2021), available at https://www.federalregister.gov/documents/2021/12/01/2021-25724/notice-of-request-for-information-rfi-on-using-a-consent-based-siting-process-to-identify-federal. The comment summary is intended to summarize the views expressed in the comments and does not contain any DOE analysis of or positions on those comments.

Additional data/information that may be useful in formulating responses to the RFI is available at https://www.energy.gov/ne/consent-based-siting.

Signing Authority

This document of the Department of Energy was signed on December 7, 2021, by Dr. Kathryn Huff, Principal Deputy Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 8, 2021.
Treena V. Garrett,
Federal Register Liaison Officer, U.S. Department of Energy.

[FR Doc. 2021-26886 Filed 12-10-21; 8:45 am]

BILLING CODE 6450-01-P